INTERNATIONAL TRADE COMMISSION

[Investigation No. 332-427]

U.S. Market Conditions for Certain Wool Articles

AGENCY: International Trade Commission.

ACTION: In accordance with the provisions of the Paperwork Reduction Act of 1995 (44 U.S.C. Chapter 35), the Commission has submitted a request for emergency processing for review and clearance of questionnaires to the Office of Management and Budget (OMB). The Commission has requested OMB approval of this submission by COB March 11, 2002.

EFFECTIVE DATE: January 7, 2002.

Purpose of Information Collection

The forms are for use by the Commission in connection with its second, and final, annual report for investigation No. 332-427, U.S. Market Conditions for Certain Wool Articles, instituted under the authority of section 332(g) of the Tariff Act of 1930 (19 U.S.C. 1332(g)). This investigation was requested by the United States Trade Representative (USTR), which asked that the Commission submit its second annual report by September 16, 2002.

Summary of Proposal

(1) Number of forms submitted: 3.

(2) Title of forms: Questionnaire for U.S. Producers of Worsted Wool Fabrics; Questionnaire for U.S. Purchasers of Worsted Wool Fabrics; Questionnaire for U.S. Importers of Worsted Wool Fabrics.

(3) Type of request: reinstatement with change.

(4) Frequency of use: one-time use.

(5) Description of respondents: U.S. producers, purchasers, and importers of worsted wool fabrics.

(6) Estimated number of respondents: 56 (producers, purchasers, and importers).

(7) Estimated total number of hours to complete the forms: 1,245 hours.

(8) Information obtained from the forms that qualifies as confidential business information will be so treated by the Commission and not disclosed in a manner that would reveal the individual operations of a firm.

Additional Information or Comment

Copies of the forms and supporting documents may be obtained from Lisa Ferens (202-205-3486; lferens@usitc.gov) of the Office of Industries, U.S. International Trade Commission. Comments about the proposals should be directed to the Office of Management and Budget, Office of Information and Regulatory Affairs, Room 10102 (Docket Library), Washington, DC 20503, Attention: Docket Librarian. All comments should be specific, indicating which part of the questionnaire is objectionable, describing the concern in detail, and including specific suggested revisions or language changes. Copies of any comments should be provided to Robert Rogowsky, Director, Office of Operations, U.S. International Trade Commission, 500 E Street SW., Washington, DC 20436, who is the Commission's designated Senior Official under the Paperwork Reduction Act.

Hearing impaired individuals may obtain information on this matter by contacting the Commission's TTD terminal (telephone No. 202-205-1810). General information about the Commission may also be obtained by accessing its Internet server (http://www.usitc.gov).

Issued: January 8, 2002.
By order of the Commission.
Marilyn R. Abbott,
Acting Secretary.

[FR Doc. 02-890 Filed 1-11-02; 8:45 am]

BILLING CODE 7020-02-P